DEPARTMENT OF DEFENSE

Office of the Secretary

Meeting of the Advisory Council on Dependents' Education

AGENCY: Department of Defense Education Activity (DoDEA).

ACTION: Notice of meeting.

SUMMARY: Pursuant to the Federal Advisory Committee Act, Appendix 2 of title 5, United States Code, Public Law 92-463, notice is hereby given that a meeting of the Advisory Council on Dependents' Education (ACDE) is scheduled to be held from 8 a.m. to 5 p.m. on Friday, April 27, 2001. The meeting will be open to the public and will be held in the New Sanno Hotel at the U.S. Forces Center, Unit 45003, in Tokyo, Japan. The meeting will be preceded by visits by ACDE members and DoDEA representatives to DoD overseas schools in Korea, Mainland Japan, and Okinawa from April 23-25. The purpose of the ACDE is to recommend to the Director, Department of Defense Education Activity (DoDEA), general policies for the operation of the Department of Defense Dependents Schools (DoDDS); to provide the Director with information about effective educational programs and practices that should be considered by DoDDS; and to perform other tasks as may be required by the Secretary of Defense. The focus of this meeting will be on student achievement and progress towards organizational strategic goals. For further information contact Ms. Marsha Jacobson, at 703-696-4235, extension 1990.

Dated: March 29, 2001.
L.M. Bynum,
Alternate OSD Federal Register Liaison Officer, DoD.

[FR Doc. 01-8317 Filed 4-4-01; 8:45 am]

BILLING CODE 5001-10-M